DEPARTMENT OF STATE

[Public Notice 11908]

Designation of Mohamed Mire, Yasir Jiis, Yusuf Ahmed Hajji Nurow, Mohamoud Abdi Aden, and Mustaf `Ato as Specially Designated Global Terrorists

Acting under the authority of and in accordance with section 1(a)(ii)(B) of E.O. 13224, I hereby determine that the persons known as: Mohamed Mire; Yasir Jiis; Yusuf Ahmed Hajji Nurow (also known as Gees Ade, Abdurrahman Footade); Mohamoud Abdi Aden (also known as Mohamed Yare, Mohamud Abdi Aden, Mohamed Hassan, Mohamud Abdirahman, Mahamoud Abdirahman, Mohamed Abdi Aden, Mahdi Sayid, Moalim Ibrahim, Moalim Mahadi); and Mustaf `Ato (also known as Abdi Karim Ato) are leaders of al-Shabaab, a group whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224.

Dated: October 14, 2022.
Antony J. Blinken,
Secretary of State.

[FR Doc. 2022-23585 Filed 10-28-22; 8:45 am]

BILLING CODE 4710-AD-P